NUCLEAR REGULATORY COMMISSION

Workshop To Discuss What Is or Is Not Material to the Completion of Inspections, Tests, and Acceptance Criteria (ITAAC)

AGENCY: Nuclear Regulatory Commission.

ACTION: Notice of public workshop.

SUMMARY: The NRC needs to establish the basis for categorizing NRC inspection results during new reactor construction under 10 CFR part 52. In order to meet that goal, the NRC is holding a workshop to explore stakeholder views on what types of NRC inspection results could call into question the completion of the ITAAC for a particular certified reactor design.

SUPPLEMENTARY INFORMATION:

The Goal of the Workshop

The determination of whether a nuclear plant licensed under 10 CFR part 52 has been built in accordance with its design is dependent on the satisfactory completion by the licensee of all the related ITAAC. This workshop is for the NRC to understand stakeholder views on why various NRC inspection results may or may not be material to the successful completion of ITAAC. Being “material to an ITAAC” means the satisfactory completion of an ITAAC may be called into question. The labels and groupings previously used to describe NRC construction inspection results may no longer be applicable. The NRC believes it should listen to and understand the views of all stakeholders before reaching a decision on the need for any new groupings and labels to describe NRC construction inspection results. The NRC has made the examples to be discussed during the workshop available electronically at the Commission's Public Document Room in Rockville, Maryland or from the Publicly Available Records (PARS) component Agencywide Document Access and Management System (ADAMS) (Accession ML050870507). ADAMS can be accessed via the NRC Web site at http://www.nrc.gov/reading-rm/adams.html (the public electronic reading room). All participants are encouraged to review the examples before the workshop and come prepared to discuss their own points of view.

Some of the potential topics for discussion could include the following:

• Various interpretations of the examples.

• The groupings of the examples based on materiality to ITAAC completion.

• The need for additional examples in order to capture all possible groupings.

• What makes a particular example material to ITAAC.

• The possible actions of both the NRC and a licensee for each grouping.

Workshop Information

DATES: May 4, 2005, from 8:30 a.m. to 3:30 p.m.

Location: U.S. Nuclear Regulatory Commission, Two White Flint North Auditorium on Rockville Pike in Rockville, Maryland. All visitors should enter through the Two White Flint main entrance. No parking is available at the NRC headquarters. The NRC is located across from the White Flint Metro Station on the Red Line.

Registration: Individuals planning to attend the workshop are asked to pre-register for the workshop at e-mail address—CIPWorkshop@NRC.gov. Please provide the following information when pre-registering: Name; organization; country; and phone number or e-mail address.

Agenda: The workshop activities will consist of an introduction and discussion of anticipated workshop outcomes; assignment of participants into work teams; work team discussion of and deliberation on construction inspection examples for materiality to ITAAC; and group discussion of work team results.

FOR FURTHER INFORMATION CONTACT: Mary Ann M. Ashley, Team Leader, Construction Inspection Program, Inspection Program Branch, Mail Stop O-7H4, U.S. Nuclear Regulatory Commission, Washington DC 20555-0001. Ms. Ashley can be reached at (301) 415-1073 or by e-mail at mab@nrc.gov.

Dated in Rockville, Maryland, this 30th day of March, 2005.
For the Nuclear Regulatory Commission.
Stuart A. Richards,
Chief, Inspection Program Branch, Division of Inspection Program Management, Office of Nuclear Reactor Regulation.

[FR Doc. E5-1598 Filed 4-6-05; 8:45 am]

BILLING CODE 7590-01-P